DEPARTMENT OF COMMERCE

Foreign-Trade Zones Board

[B-68-2015]

Foreign-Trade Zone (FTZ) 102—St. Louis, Missouri; Authorization of Production Activity; H-J Enterprises, Inc./H-J International, Inc. (Electrical Transformer Bushing Assemblies), High Ridge, Missouri

On October 20, 2015, the St. Louis County Port Authority, grantee of FTZ 102, submitted a notification of proposed production activity to the FTZ Board on behalf of H-J Enterprises, Inc./H-J International, Inc. (H-J), within FTZ 102, in High Ridge, Missouri.

The notification was processed in accordance with the regulations of the FTZ Board (15 CFR part 400), including notice in the Federal Register inviting public comment (80 FR 66489, October 29, 2015). The FTZ Board has determined that no further review of the activity is warranted at this time. The production activity described in the notification is authorized, subject to the FTZ Act and the Board's regulations, including Section 400.14.

Dated: February 17, 2016.
Andrew McGilvray,
Executive Secretary.

[FR Doc. 2016-03759 Filed 2-22-16; 8:45 am]

BILLING CODE 3510-DS-P